DEPARTMENT OF TRANSPORTATION

National Highway Traffic Safety Administration

[Docket No. DOT-NHTSA-2922-0049]

Agency Information Collection Activities; Notice and Request for Comment; Crash Report Sampling System (CRSS), Non-Traffic Surveillance (NTS) and Special Studies Data Collection

AGENCY: National Highway Traffic Safety Administration (NHTSA), Department of Transportation (DOT).

ACTION: Notice and request for comments on a request for extension with modification of a currently approved information collection.

SUMMARY: NHTSA invites public comments about our intention to request the Office of Management and Budget (OMB) for an extension with modification of a currently approved information collection. Before a federal agency can collect certain information from the public, it must receive approval from the Office of Management and Budget (OMB). Under procedures established by the Paperwork Reduction Act of 1995, before seeking OMB approval, Federal agencies must solicit public comment on proposed collections of information, including extensions and reinstatement of previously approved collections. This document describes collections of information for which NHTSA intends to seek OMB approval that collect for NHTSA's Crash Report Sampling System (CRSS), Non-Traffic Surveillance (NTS), and special studies.

DATES: Written comments should be submitted by November 28, 2022.

ADDRESSES: You may submit comments [identified by Docket No. DOT-NHTSA-20XX-XXXX] through one of the following methods:

• Electronic Submissions: Go to the Federal eRulemaking Portal: http://www.regulations.gov. Follow the online instructions for submitting comments.

• Fax:1-202-493-2251

• Mail or Hand Delivery: Docket Management Facility, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Jonae S. Anderson, Office of Data Acquisition (NSA-120), Room W53-470. (202) 366-1028, 1200 New Jersey Avenue SE, Washington, DC 20590, Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5CFR 1320.8(d), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses.

In compliance with these requirements, NHTSA asks for public comments on the following proposed collections of information for which the agency is seeking approval from OMB.

Title: Crash Report Sampling System (CRSS), Non-Traffic Surveillance System (NTS), and Special Studies.

OMB Control Number: 2127-0714.

Form Number(s): N/A.

Type of Request: Revision of a currently approved collection of information.

Type of Review Requested: Regular.

Requested Expiration Date of Approval: 3 years from date of approval.

Summary of the Collection of Information: NHTSA is authorized by 49 U.S.C. 30182 and 23 U.S.C. 403 to collect data on motor vehicle traffic crashes to aid in the identification of issues and the development, implementation, and evaluation of motor vehicle and highway safety countermeasures to reduce fatalities and the property damage associated with motor vehicle crashes. Using this authority, NHTSA established the Crash Report Sampling System (CRSS), CRSS related Special Studies and the Non-Traffic Surveillance (NTS). Through these efforts, NHTSA collects data on motor vehicle crashes, including crashes involving injuries and fatalities, property damage only crashes, as well as non-traffic crashes that involve injuries and fatalities. NHTSA uses information from these data collections to support NHTSA's mission to save lives, prevent injuries, and reduce economic losses resulting from motor vehicle crashes.

Since late 1970s, NHTSA's National Center for Statistics and Analysis (NCSA) has utilized a multidisciplinary approach to meet the data needs of our end users that leverages an efficient combination of census, sample-based, and existing State files to provide information on traffic crashes on a timely basis. Beginning in 2016, the CRSS has been used to identify highway safety problem areas and provide general data trends. The Non-Traffic Surveillance System (NTS) provides data regarding fatalities and injuries that occur in non-traffic crashes and non-crash incidents.

CRSS obtains data from a nationally representative probability sample selected from police reported motor vehicle traffic crashes. Specifically, CRSS collects data on crashes involving at least one motor vehicle in transport on a trafficway that resulted in property damage, injury or a fatality will be included in the CRSS sample. The crash reports sampled will be chosen from selected areas that reflect the geography, population, miles driven, and the number of crashes in the United States. No additional data beyond the selected crash reports will be collected. Once the crash reports are received, they will be coded and the data will be entered into the CRSS Records Based Information Solution (RBIS), the repository for CRSS cases and reporting tools.

CRSS will acquire nationally representative information on fatalities, injuries and property damage directly from existing State police crash reports. The user population includes Federal and State agencies, automobile manufacturers, insurance companies, and the private sector. Annual changes in the sample parameters are minor in terms of operation and method of data collection, and do not affect the reporting burden on respondents.

The Non-Traffic Surveillance (NTS) is a data collection effort for collecting information about counts and details regarding fatalities and injuries that occur in non-traffic crashes and non-crash incidents. Non-traffic crashes are crashes that occur off a public trafficway (e.g., private roads, parking lots, or driveways), and non-crash incidents are incidents involving motor vehicles but do not involve a crash scenario, such as carbon monoxide poisoning and hypo/hyperthermia. NTS non-traffic crash data are obtained through NHTSA's data collection efforts for the Crash Report Sampling System (CRSS), the Crash Investigation Sampling System (CISS),¹ and the Fatality Analysis Reporting System (FARS) ². NTS also includes data outside of NHTSA's own data collections. NTS' non-crash injury data is based upon emergency department records from a special study conducted by the Consumer Product Safety Commission's National Electronic Injury Surveillance System (NEISS) All Injury Program. NTS non-crash fatality data is derived from death certificate information from the Centers for Disease Control's National Vital Statistics System.

¹ NHTSA's information collection for CISS is covered by the ICR with OMB Control No. 2127-0706.

² NHTSA's information collection for FARS is covered by the ICR with OMB Control No. 2127-0006.

For the NTS data collection this notice only discusses for the non-traffic crash portion that is collected using methods for the CRSS data collection. The non-traffic crash data that feed into NTS from the FARS and CISS data collection efforts are covered under information collection clearances for those data collection efforts. This is done because the data is collected differently under each of NHTSA's three data collection efforts. During the CRSS and CISS sampling process, NTS applicable crashes will be chosen from the same sample sites. The FARS data collection effort uncovers NTS applicable reports received from the State during their normal data collection activities for FARS. Therefore, the burden for NTS is included in each study's calculation. No additional data will be collected beyond the NTS applicable reports. Once the crash reports are received, each case will be coded and entered into the NTS RBIS application. NHTSA uses NTS data to estimate fatalities and injuries in non-traffic crashes, which are crashes which occur off the trafficways such as nonpublic roads, driveways, and parking lots.

In addition to CRSS data collection, NHTSA may require special studies to further analyze motor vehicle crashes in the CRSS jurisdictions. One type of special study is the collection of data from the non-sampled crashes from CRSS Police Jurisdictions (PJs) by the crash report Strata, NTS applicable, or out of scope, to help assess the accuracy of the PJ frame. Non-sample PJs are defined as PJs that investigate motor vehicle crashes within the CRSS PSU boundaries but are not sampled through the CRSS study.

Another special study NHTSA may require is the CRSS PJ frame evaluation. The PJ frame is constantly changing: new PJs start operating, existing PJs are closed, multiple PJs are merged into one PJ, or one PJ splits into multiple PJs. The current CRSS PJ sample was selected from the 2016 PJ frame and the PJ weights were calculated accordingly. If the PJ frame has changed dramatically from the 2016 PJ frame, the CRSS PJ weights are no longer correct and the CRSS estimates may be biased. To prevent this, NHTSA needs to evaluate the current PJ frame to identify all PJs that currently generate PCRs for the sampled non-Electronic Data Transfer (EDT) PSUs and collect 6 crash counts (total crashes, fatal crashes, injury crashes, pedestrian crashes, motorcycle crashes, and commercial motor vehicle crashes). The EDT is the nightly transfer of crash data. EDT PSUs have been collapsed into one PJ and sample crash reports throughout the county. Thus, the concern of completeness of the PJ frame in EDT PSUs, isn't an issue. Additionally, this study is different from the non-sample count special study, because the six crash counts are unrelated to CRSS or NTS applicability. These crash counts will be used as PJ measurement of size for PJ sample selection or PJ weight adjustment if needed.

NHTSA is seeking approval to modify the existing information collection to (a) reduce the burden hour estimates for CRSS information collection to account for previous inflated estimates and current efficiencies and (b) add the non-sampled Special Study into this package. The combined impact is an increase of 7,000 burden hours to NHTSA's overall total.

Description of the Need for the Information and Proposed Use of the Information

NHTSA's mission is to save lives, prevent injuries, and reduce economic losses resulting from motor vehicle crashes. In order to accomplish this mission, NHTSA needs high-quality data on motor vehicle crashes. The CRSS supports this mission by providing the agency with vital information about a nationally representative sample involving motor vehicle traffic crashes that occur on our nation's roadways.

CRSS data is used extensively by all the NHTSA program and research offices, other DOT modes, States, and local jurisdictions. The highway research community uses the CRSS data for trend analysis, problem identification, and program evaluation. Congress uses the CRSS data for making decisions concerning safety programs. The CRSS data is made publicly available to anyone interested in highway safety.

The NTS is a Congressionally mandated data collection effort, which provides counts and details regarding injuries and fatalities that occur in non-traffic crashes and in non-crash incidents. NTS annual data is used to produce estimates for injuries and fatalities in non-traffic crashes. The NTS data is also made publicly available for highway safety research purposes.

The special studies such as the non-sample count and PJ frame evaluation are critical to assessing the quality of the PJ frame of the CRSS PSUs to determine PJ weights and measure of size for the CRSS PJ sample selection. Without the special studies, NHTSA may fail to accurately assess the national crash picture by missing pertinent crash data.

Affected Public: Various Police Jurisdiction and State Agencies.

Local police jurisdictions (PJs) and State agencies that collect and maintain central databases of motor vehicle crashes partner with NHTSA to provide access to crash reports for the CRSS sample sites on a routine basis. CRSS collects data from sampled police jurisdictions in order to collect a nationally representative sample. However, because CRSS only collects information from police crash reports for many jurisdictions, NHTSA is able to collect the data directly from the States. This is because States have been moving toward more electronic and centralized data collection systems.

Estimated Number of Respondents: NHTSA estimates that approximately 28 States and 44 police jurisdictions will provide crash data to support CRSS in each of the next three years. Because the portion of NTS data that comes from the CRSS data collection relies on the CRSS data collection methodologies, NHTSA estimates that the same 72 respondents will also provide data to NHTSA through the CRSS data collection effort. The estimated number of respondents for the non-sample count special study is approximately 136 PJs. The estimated number of respondents for the PJ frame evaluation is approximately 1,248 PJs.

Frequency: Varies. The frequency of providing crash reports is established by the local PJs and state agencies. Typically, weekly, or bi-weekly access to crash reports is provided.

Estimated Number of Responses Annually: NHTSA estimates 677,005 crash reports, which includes both the CRSS and NTS crashes from the sample PJs. However, of the 677,005 crashes, it is estimated that 3,000 of those will be NTS applicable crashes and thus remainder could be CRSS applicable crashes is 674,005. Additionally, it is estimated that the non-sample special studies will generate 247,110 crashes from the non-sample PJs. The number of crashes for the PJ frame evaluation will be estimated at the total of crash reports generated from combining the sample and non-sample PJs to derive the six crash counts. Thus, the number of generated crash reports estimated is 677,005 + 247,110 = 1,410,551 crashes.

Study | Estimated number of crashes
CRSS | 674,005
NTS | 3,000
Non-Sample Special Study | 247,100
PJ Frame Evaluation Special Study | 1,410,551
Grand Total | 1,410,551

Estimated Total Annual Burden Hours: 42,680 Hours.

Within the 30 States or 60 CRSS Primary Sampling Units (PSUs) there are Police Jurisdictions (PJs), from which a CRSS sampler must obtain crash reports for listing, categorization, and sampling. Currently, 50 PSUs provide NHTSA data electronically—through EDT, State website access, or web service portal. For one State, the crash reports are obtained through EDT and manually since not all crashes are reported through EDT. Therefore, NHTSA counted that state more than once due to the crash report acquisition method. However, there is a total of 10 PSUs, or 21 local PJs, where crash reports collection is conducted in the field using a combination of electronic and manual methods as dictated by the sample PJ's crash report collection methods. These PJs required field samplers which incur an increased burden due to the labor-intensive administrative practices and privacy protections associated with manually accessing the crash reports. The total respondents doesn't equal to 30 States or 60 PSUs, due to the variation in accessing crash reports throughout the sample.

The annual burden estimate detailed in Table 1 is produced by identifying the crash report access method for each PSU and PJ and assigning the appropriate burden hours for that method as outlined below.

• EDT Maintenance—For PSUs providing crash report through EDT, the burden is estimated at 5 hours annually. This accounts for yearly updates to programming needed to successfully transmit data, such as updating data structures if new data elements are added or any changes to the state made to their crash report and/or databases.

• State Website—User Access Only: For PSUs providing crash reports via a state repository/website or database, the burden is estimated at 10 hours annually. This represents time to process user account requests, establish credentials, and routine maintenance of the State's data repositories.

• State Website—User Access and Additional Administrative Functions: For PSUs providing crash reports directly to NHTSA via web service or where the State employees provide user access accounts in addition to regularly searches for crash reports, compiles the lists of crashes to send to NHTSA monthly, the burden is estimated at 60 hours annually. This represents implementation, data transfer monitoring, and communications with NHTSA and its contractors.

• For PSUs providing crash reports to NHTSA via manual crash report access methods (i.e., weekly physical visits to a PJ, copying crash reports and mailing them, and searching for recently completed crash reports and uploading crash reports to secure email links), the burden is estimated at 470 hours annually. This represents—but is not limited to—maintaining a law enforcement presence while the crash reports are being reviewed, and/or providing resources to the CRSS sampler in order to access the crash reports. This is the most labor extensive access type due to the administrative burden and the additional processes required to protect PII. Other local police jurisdictions may photocopy crash reports and FedEx to the contractors or download electronic crash reports to submit electronically via secure email or thumb drive monthly.

Access method | Hours per jurisdiction | Number of respondents—police jurisdiction (PJ) or states | Total hours
EDT (Maintenance) | 5 | 14 | 70
State Website (user access only) | 10 | 11 | 110
State Website (user access and additional administrative functions) | 60 | 2 | 120
Web Service (user access and States query and compile info) | 60 | 1 | 60
Mixed Manual | 470 | 44 | 20,680
Grand Total |  | 72 | 21,040

On an ad-hoc basis, NHTSA requests a non-sample count special study to assess the Police Jurisdiction (PJ) frame. The non-sample count and the PJ Frame evaluation studies are critical to assessing the quality of the PJ frame of the CRSS PSUs to determine PJ weights and measure of size for the CRSS PJ sample selection. Without the special studies, NHTSA may fail to accurately assess the national crash picture by missing pertinent crash data.

Number of Respondents: 136 (Non-Sample Count Special Study).

Estimated Total Annual Burden Hours: 21,307 (Non-Sample Count Special Study).

The burden calculation for the non-sample count special study is difficult to determine. Each burden calculation is associated with the agreed upon crash report access method for sample sites. For non-sample PJs we have no established relationship nor is it known which type of access to crash report is feasible. Most importantly, non-sample count special studies are conducted on an ad-hoc basis and not implemented every year. Table 2 illustrates non-sample counts by access method in the state for sample sites.

EDT has been removed from the table because CRSS samples from the entire county, there is no distinction between the non-sample and sample PJs. This is an added benefit to EDT implementation as we get an accurate assessment of the PSU frame by CRSS strata. State websites with user access have non-sample PJs however, there is no added burden because the initial access granted is at the state level. State website with user access and additional administrative functions provide NHTSA data at the county level, which includes both sample and non-sample PJs, thus there is no additional burden to the state. Webservice agreements also provide data at the county level, thus there is no additional burden to the state. States noted as having manual methods only account for the sample PJs. Without established cooperation, NHTSA can't forecast individual PJs access methods for the purposes of the burden calculation. Thus, the maximum burden for the non-sample count special study's estimated burden is 21,307 with the possibility of reduction with cooperative agreements finalized.

Access method | Hours per jurisdiction | Number of respondents—police jurisdiction (PJ) or states | Total hours
State Website (user access only) | 10 | 0 | 0
State Website (user access and additional administrative functions) | 60 | 0 | 0
Web Service (user access and States query and compile info) | 60 | 0 | 0
Manual | 470 | 136 | * 21,307 (470 136/3)
Grand Total |  | 136 | 21,307

Number of Respondents: 1,248 (PJ Frame Evaluation Special Study).

Estimated Total Annual Burden Hours: 333 (PJ Frame Evaluation Special Study).

The activities associated with PJ frame evaluation special study include identifying the in-scope PJs and contacting the in-scope PJs for the 6 crash counts. NHTSA estimates there are total 40 non-EDT PSUs and about 1,248 PJs in those non-EDT PSUs. NHTSA estimates it would about 1 minute per PJ to confirm if any changes to the PJ since the 2016. NHTSA anticipates approximately 15 minutes (0.25 hours) for each PJ to prepare the 6 crash counts. NHTSA estimates the total number of hours of response burden is about 333 hours.

PJ frame evaluation | Hours per jurisdiction | Number of respondents jurisdiction (PJ) | Total hours
Manual | 16 Minutes | 1,248 | * 333 (16/60 1,248)
Grand Total |  | 1,248 | 333

This hourly burden was calculated using the Bureau of Labor Statistics' mean hourly wage estimate for Court, Municipal, and License Clerks (Standard Occupational Classification #43-4031) ³ from May 2021 of $21.57. Therefore, NHTSA estimates the hourly wage associated with the estimated 21,040 burden hours to be $453,832.80 (21,040 hours × $21.57 per hour). This is a reduction of the previously reported burden of 35,680 labor hours and estimated costs of $705,036.80. The efficiencies with the increased implementation of the EDT and better understanding of local and state crash repositories contribute to the reduction in burden labor hours and subsequent costs. The Bureau of Labor Statistics estimates that for State and local government workers, wages represent 54.96% of total compensation.⁴ Therefore, the total cost of burden associated with this collection is estimated to be $825,751.09 ($453,832.80/.5496).

³ See May 2021 National Industry-Specific Occupational Employment and Wage Estimates, 43-4031—Court, Municipal, and License Clerks, available at https://www.bls.gov/oes/current/oes434031.htm (accessed May 18, 2022).

⁴ See Table 1. Employer Costs for Employee Compensation by ownership (Dec. 2021), available at https://www.bls.gov/news.release/ecec.t01.htm (accessed May 18, 2022).

The total burden hours are presented in the table below but described for each study.

Study | Total burden hours
CRSS | 21,040
NTS | 0
Non-Sample Special Study | 21,307
PJ Frame Evaluation Special Study | 333
Grand Total | 42,680

Estimated Total Annual Burden Cost: $0.

NHTSA estimates that there are no costs associated with this information collection other than labor costs associated with burden hours. This is a drastic decrease from the $1.7 M from when NHTSA last sought approval for this information collection. The decrease in costs is a result of removing labor costs associated with labor hours that were included in response to question 12, but unfortunately were incorrect.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection. You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Chou Lin Chen,
Associate Administrator, National Center for Statistics and Analysis.

[FR Doc. 2022-21037 Filed 9-27-22; 8:45 am]

BILLING CODE 4910-59-P